NATIONAL SCIENCE FOUNDATION

Sunshine Act Meetings

The National Science Board (NSB) hereby gives notice of the scheduling of a videoconference of the Committee on Oversight (CO) for the transaction of National Science Board business, pursuant to the National Science Foundation Act and the Government in the Sunshine Act.

TIME AND DATE: Tuesday, August 23, 2022, from 11:30 a.m.-12:30 p.m. EDT.

PLACE: This meeting will be held by videoconference organized through the National Science Foundation.

STATUS: Closed.

MATTERS TO BE CONSIDERED: Committee Chair's remarks: presentation and discussion of proposed Office of the Inspector General (OIG) budget submission for FY 2024; recommendation of approval to the National Science Board.

CONTACT PERSON FOR MORE INFORMATION: Point of contact for this meeting is: Chris Blair, (703) 292-7000, cblair@nsf.gov. You may find meeting information and updates at https://www.nsf.gov/nsb/meetings/index.jsp.

Chris Blair,
Executive Assistant to the National Science Board Office.

[FR Doc. 2022-18093 Filed 8-17-22; 4:15 pm]

BILLING CODE P